DEPARTMENT OF HEALTH AND HUMAN SERVICES

Centers for Disease Control and Prevention

[Docket No. CDC-2018-0082]

Surgeon General's Call to Action: “Community Health and Prosperity”

AGENCY: Centers for Disease Control and Prevention (CDC), Department of Health and Human Services (HHS).

ACTION: Notice with comment period.

SUMMARY: The Centers for Disease Control and Prevention (CDC) in the Department of Health and Human Services (HHS) announces the opening of a docket to obtain comment on an upcoming Surgeon General's document/Call to Action with a working title “Community Health and Prosperity”.

CDC is the lead agency to support the Office of the Surgeon General to publish a Call to Action that will be science-informed and actionable, outlining a conceptual framework with case examples and available evidence on the business case for investing in community health. The goal of the Call to Action is to: Clearly demonstrate that investments in community health have the potential to improve the health and prosperity of communities and issue a call to action to the private sector and local policy makers for investment in communities, unilaterally or as part of multi-sector or other consortium, to improve community health.

DATES: Written comments must be received before November 5, 2018.

ADDRESSES: You may submit comments, identified by Docket No. CDC-2018-0082 by any of the following methods:

• Federal eRulemaking Portal: http://www.regulations.gov. Follow the instructions for submitting comments.

• Mail: Martin J. Vincent, Office of the Associate Director for Policy, Centers for Disease Control and Prevention, 1600 Clifton Road NE, Mail Stop D-28, Atlanta, Georgia 30329.

• Instructions: All submissions received must include the agency name and Docket Number. All relevant comments received will be posted without change to http://regulations.gov, including any personal information provided. For access to the docket to read background documents or comments received, go to http://www.regulations.gov.

FOR FURTHER INFORMATION CONTACT: Martin J. Vincent, Office of the Associate Director for Policy, Centers for Disease Control and Prevention, 1600 Clifton Road NE, Mail Stop D-28, Atlanta, Georgia 30329. Telephone: 404-639-1455, Email: CHP@cdc.gov.

SUPPLEMENTARY INFORMATION:

Public Participation

Interested persons or organizations are invited to submit written views, recommendations, and data about how investing in communities can improve health and prosperity. Examples may include:

(1) Available data, evidence and/or experience(s) (a) that suggest private sector investments in community health have (directly or indirectly) improved health and prosperity of the workforce and communities; (b) that healthier communities help private sector businesses to be more efficient, profitable, successful, or competitive; (c) description of data systems and evaluation frameworks that might contribute to supporting community health investment decisions, evaluating success and impact; and (d) case studies, examples, reviews and meta-analyses, data linkages, promising and emerging ideas, and best practices;

(2) Types of investments the private sector and local policy makers can consider to improve health and wellness of employees and families, and community well-being and prosperity;

(3) Types of partners or coalitions that have invested in community health and the scope of their collaborations contributions;

(4) Descriptions of important barriers to and facilitators of success;

(5) Private sector and local policy maker rationales for making investments in community health; and

(6) Successful efforts by local policy makers to promote and sustain private sector investments in community health.

Please note that comments received, including attachments and other supporting materials, are part of the public record and subject to public disclosure. Comments will be posted at https://www.regulations.gov. Therefore, do not include any information in your comment or supporting materials that you consider confidential or inappropriate for public disclosure. If you include your name, contact information, or other information that identifies you in the body of your comments, that information will be on public display. CDC will review all submissions and may choose to redact or withhold submissions containing private or proprietary information, such as Social Security numbers, medical information, inappropriate language, or duplicate/near duplicate examples of a mass-mail campaign. CDC will carefully consider all comments submitted and may include relevant information in the Call to Action.

Background

America's prosperity is being hampered by preventable chronic diseases and behavioral health issues. Life expectancy at birth dropped in the United States for a second consecutive year in 2016. Preliminary data indicate that age-adjusted death rates continued to rise in 2017, which is likely to mark a third straight year of declining life expectancy. The U.S. lags behind comparable high-income countries on a range of health outcomes including life expectancy despite spending more on health care. About 6 in 10 American adults have at least one chronic health condition, and these people account for 90% of total health care spending. While chronic diseases affect all populations, they are not evenly distributed. Disease rates vary by race, ethnicity, education, geography and income level, with the most disadvantaged Americans often suffering the highest burden of disease.

However, only about 20% of the factors that influence a person's health can be addressed by health care and the remaining 80% reflect socioeconomic, environmental or behavioral factors. Focusing on strategies that address the social and community conditions could improve health, life expectancy, and quality of life, while also reducing related health care costs and productivity losses. Investing in communities to improve the health and well-being of people could also revitalize and improve economic opportunity, enhancing prosperity in the community and for its residents and businesses.

Although there are published literature and several ongoing public, private and philanthropic initiatives examining how investments in community health can enhance well-being and economic prosperity, there has not been a thorough assessment that compiles the evidence and best practices to illustrate benefits for the private sector and local policy makers. The Surgeon General's Call to Action is expected to bridge that gap and inspire more investments by the private sector and local policy makers in community health.

Dated: August 31, 2018.
Lauren Hoffmann,
Acting Executive Secretary, Centers for Disease Control and Prevention.

[FR Doc. 2018-19313 Filed 9-5-18; 8:45 am]

BILLING CODE 4163-18-P